DEPARTMENT OF ENERGY

Federal Energy Regulatory Commission

[Project No. 2219-013 Utah]

Notice of Combined Initial Information Meeting and Scoping Meeting, Project Site Visit, and Solicitation of Scoping Comments for an Applicant-Prepared Environmental Assessment Using the Alternative Licensing Procedure; Garkane Power Association, Inc.; Utah

April 15, 2002.

The Commission's regulations allow applicants to prepare their own Environmental Assessment (EA) for hydropower projects and file it with the Federal Energy Regulatory Commission (Commission) along with their license application as part of an alternative licensing procedure (ALP).¹ On December 6, 2001, the Commission approved the use of an ALP in the preparation of the license application for Garkane Power Association, Inc.'s (Garkane) Boulder Creek Project, No. 2219. The 4.3-megawatt Boulder Creek Project is located on Boulder Creek, about 6 miles north of the town of Boulder, in Garfield County, Utah. About 36.86 acres of the project occupy federal lands, managed by the U.S. Forest Service as part of the Dixie National Forest.

¹ 81 FERC ¶ 61,103 (1997)

The ALP includes provisions for the distribution of an initial information package (IIP), and for the cooperative scoping of environmental issues and information needs. Garkane distributed a combined IIP and Scoping Document 1 (SD1) for the Boulder Creek Project on March 28, 2002, to the mailing list for this proceeding.

Public Meeting and Project Site Visit

Garkane will hold a combined informational and scoping meeting and project site visit on April 29, 2002. The purpose of the meeting is to review the information presented in the IIP/SD1 and to initiate the identification of areas of interest that should be addressed in the licensing and related Applicant-Prepared Environmental Assessment (APEA) processes. The meeting will be held at 1 p.m. at the Boulder Town Center, 351 No. 100 E., Boulder, Utah.

The site visit will be held in the afternoon after the meeting on April 29, 2002. The site visit is intended to provide the opportunity for interested individuals to learn more about the project, its operations, and the surrounding environment

The deadline for filing written scoping comments is June 28, 2002. Comments may be submitted by writing or e-mail to the following address: Jones and DeMille Engineering, 1440 South Pipe Lane, Richfield, UT 84701, john@jonesanddemille.com.

Based on feedback received on the IIP/SD1 and the project site visit, Garkane will prepare a Scoping Document 2 (SD2). SD2 will include a revised list of issues, based on the meeting and written comments. Garkane expects to issue SD2 on July 31, 2002.

All interested individuals, organizations, and agencies are invited and encouraged to attend the meeting on the IIP/SD1 and project site visit and to assist in the further identification of environmental issues that should be included in SD2.

We are asking federal, state, local, and tribal agencies with jurisdiction and/or special expertise with respect to environmental issues to cooperate with us in the preparation of the Commission's EA. Agencies who would like to request cooperating agency status should file such a request (original and eight copies) with: Magalie R. Salas, Secretary, Federal Energy Regulatory Commission, 888 First Street, NE., Washington, DC 20426. Please put the docket number, P-2219-013, on the first page of your filing.

For further information regarding the informational and scoping meeting and project site visit or to be added to the mailing list for the Boulder Creek ALP, please contact Mr. John Spendlove of Jones and DeMille Engineering at (435) 896-8266 or Ms. Dianne Rodman of the Commission's staff at (202) 219-2830.

The IIP/SD1 may be viewed on the web at http://www.ferc.gov using the “RIMS” link-select “Docket #” and follow the instructions (call 202-208-2222 for assistance).

Magalie R. Salas,
Secretary.

[FR Doc. 02-9705 Filed 4-19-02; 8:45 am]

BILLING CODE 6717-01-P